DEPARTMENT OF HEALTH AND HUMAN SERVICES

[Document Identifier: OS-4040-0013]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 17, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Joseph Raborn, joseph.raborn@hhs.gov or (202) 870-2037. When submitting comments or requesting information, please include the document identifier 4040-0013-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Disclosure of Lobbying Activities (SF-LLL) and Certification Regarding Lobbying.

Type of Collection: Renewal.

OMB No.: 4040-0013.

Abstract: Disclosure of Lobbying Activities (SF-LLL) and Certification Regarding Lobbying are OMB-approved collections (4040-0013). These information collections are used by grant applicants. This IC expires on February 28, 2022. We are requesting a three-year clearance of these collections.

Type of Respondent: Grant Applicant and Awardee.

Estimated Annualized Burden Table
Type of respondent | Number of respondents | Number responses per respondent | Average burden per response (in hours) | Total burden hours
Grant-seeking organizations | 12,675 | 1 | 1 | 12,675
Grant-seeking organizations | 3,952 | 1 | .5 | 1,976
Total | 12,675 | 1 | 1.5 | 14,651

Sherrette A. Funn,
Paperwork Reduction Act Reports Clearance Officer, Office of the Secretary.

[FR Doc. 2022-00768 Filed 1-14-22; 8:45 am]

BILLING CODE 4151-AE-P